DEPARTMENT OF ENERGY

Federal Energy Regulatory Commission

[Project No. 11143-020]

Glen Falls Hydro, LLC; Essex Energy Partners, LLC; Notice of Application for Transfer of License, and Soliciting Comments and Motions To Intervene

March 24, 2010.

On March 8, 2010, Glen Falls Hydro, LLC (transferor) and Essex Energy Partners, LLC (transferee) filed an application for transfer of license of the Glen Falls Project, located on the Moosup River in Windham County, Connecticut.

Applicants seek Commission approval to transfer the license for the Glen Falls Project from the transferor to the transferee.

Applicant Contact: For transferor Mr. John Gauvin, Glen Falls Hydro, LLC, 340 Prospect Street, Moosup, CT 06354, phone (860) 564-7786. For the transferee Mr. Bruce DiGennaro, Essex Energy Partners, LLC, 27 Vaughan Avenue, Newport, RI 02840, phone (401) 619-4872

FERC Contact: Robert Bell, (202) 502-6062.

Deadline for filing comments and motions to intervene: 30 days from the issuance of this notice. Comments and motions to intervene may be filed electronically via the Internet. See 18 CFR 385.2001(a)(1)(iii)(2008) and the instructions on the Commission's Web site under the “e-Filing” link. If unable to be filed electronically, documents may be paper-filed. To paper-file, an original and eight copies should be mailed to: Kimberly D. Bose, Secretary, Federal Energy Regulatory Commission, 888 First Street, NE., Washington, DC. 20426. For more information on how to submit these types of filings please go to the Commission's Web site located at http://www.ferc.gov/filing-comments.asp. More information about this project can be viewed or printed on the eLibrary link of Commission's Web site at http://www.ferc.gov/docs-filing/elibrary.asp. Enter the docket number (P-11143-020) in the docket number field to access the document. For assistance, call toll-free 1-866-208-3372.

Kimberly D. Bose,
Secretary.

[FR Doc. 2010-7142 Filed 3-30-10; 8:45 am]

BILLING CODE 6717-01-P